DEPARTMENT OF HEALTH AND HUMAN SERVICES

Office of the Secretary

[Document Identifier: 0990-new-30D]

Agency Information Collection Activities; Submission to OMB for Review and Approval; Public Comment Request

AGENCY: Office of the Secretary, HHS.

ACTION: 30-Day notice.

SUMMARY: In compliance with the Paperwork Reduction Act of 1995, the Office of the Secretary (OS), Department of Health and Human Services, has submitted an Information Collection Request (ICR), described below, to the Office of Management and Budget (OMB) for review and approval. Comments submitted during the first public review of this ICR will be provided to OMB. OMB will accept further comments from the public on this ICR during the review and approval period.

DATES: Comments on the ICR must be received on or before August 23, 2017.

ADDRESSES: Submit your comments to OIRA_submission@omb.eop.gov or via facsimile to (202) 395-5806.

FOR FURTHER INFORMATION CONTACT: Sherrette Funn, Sherette.Funn@hhs.gov or (202) 795-7714.

SUPPLEMENTARY INFORMATION: When submitting comments or requesting information, please include the document identifier 0990-new-30D for reference.

Information Collection Request Title: Evaluation of the Certified Community Behavioral Health Clinic Demonstration.

OMB No.: 0990-NEW.

Abstract: The Office of the Assistant Secretary for Planning and Evaluation (ASPE) at the U.S. Department of Health and Human Services (HHS) is requesting Office of Management and Budget (OMB) approval for data collection activities to support the evaluation of the Certified Community Behavioral Health Clinic (CCBHC) demonstration program.

In April 2014, Section 223 of the Protecting Access to Medicare Act (PAMA) mandated the CCBHC demonstration to address some of the challenges of access, coordination, financing, and quality facing community mental health centers (CMHCs) across the country. The CCBHC demonstration is intended to improve the availability, quality, and outcomes of CMHC ambulatory care by establishing a standard definition and criteria for CCBHCs, and developing a new payment system that accounts for the total cost of providing comprehensive services to all individuals who seek care. The demonstration also aims to more fully integrate primary and behavioral health care services; ensure more consistent use of evidence-based practices; and, through enhanced standardized reporting requirements, offer an opportunity to assess the quality of care provided by CCBHCs across the country. The demonstration and its evaluation offer an opportunity to examine the implementation and outcomes of CCBHCs. The evaluation will provide critical information to Congress and the larger behavioral health community about innovative ways CCBHCs are attempting to improve care and the effects of a well-defined, comprehensive service array on client outcomes and costs.

Need and Proposed Use of the Information: Section 223 of PAMA requires the Secretary of HHS to provide annual reports to Congress that include an assessment of access to community-based mental health services under Medicaid, the quality and scope of CCBHC services, and the impact of the demonstration on federal and state costs of a full range of mental health services. In addition, PAMA requires the Secretary to provide recommendations regarding continuation, expansion, modifications, or termination of the demonstration no later than December 31, 2021. The data collected under this submission will help ASPE address research questions for the evaluation, and inform the required reports to Congress.

Likely Respondents:

—Certified Community Behavioral Health Clinic demonstration grantees, this includes leadership, providers, care managers, and administrative and financial management staff;

—State Medicaid Officials;

—State Mental Health Officials; and

—State Consumer/Family Representatives.

The total annual burden hours estimated for this ICR are summarized in the table below.

Total Estimated Annualized Burden—Hours
Respondents/activity | Number of sites | Number of respondents per site | Responses per respondent | Total responses | Hours per response | Total hour burden
CCBHC site leadership staff—site interview | 8 | 1 | 1 | 8 | 2 | 16
CCBHC frontline providers—site interview | 8 | 4 | 1 | 24 | 1 | 24
CCBHC care managers—site interview | 8 | 2 | 1 | 16 | 1 | 16
CCBHC administrative/finance staff—site interview | 8 | 2 | 1 | 16 | 1 | 16
State Medicaid official—telephone interview | 8 | 2 | 3 | 48 | 1 | 48
State mental health official—telephone interview | 8 | 2 | 3 | 48 | 1 | 48
State consumer/family representative—telephone interview | 8 | 2 | 1 | 16 | 1 | 16
CCBHC site leadership staff—completion of report | 76 | 1 | 2 | 152 | 4 | 608
Total | 132 | 16 | 13 | 178 | 16 | 792

Darius Taylor,
Information Collection Clearance Officer.

[FR Doc. 2017-15448 Filed 7-21-17; 8:45 am]

BILLING CODE 4150-05-P